DEPARTMENT OF AGRICULTURE

Animal and Plant Health Inspection Service

7 CFR Part 305

[Docket No. APHIS-2006-0050]

Cold Treatment Regulations; Correction

AGENCY: Animal and Plant Health Inspection Service, USDA.

ACTION: Interim rule; correction.

SUMMARY: We are correcting an error in the cold treatment regulations that resulted from the publication of an interim rule on July 2, 2007, that was effective on August 31, 2007, and the publication of a separate final rule on July 18, 2007, that was effective on August 17, 2007. Because the July 18 final rule reorganized the cold treatment regulations, changes we made in the July 2 interim rule inadvertently removed provisions relating to places for cold treatment and ports of entry from the regulations when the interim rule became effective on August 31, 2007. This correction amends the regulations by reinstating those provisions.

DATES: Effective Date: December 11, 2007.

FOR FURTHER INFORMATION CONTACT: Dr. Inder P.S. Gadh, Senior Risk Manager—Treatments, Phytosanitary Issues Management, PPQ, APHIS, 4700 River Road Unit 133, Riverdale, MD 20737-1236; (301) 734-8758.

SUPPLEMENTARY INFORMATION: In an interim rule ¹ titled “Cold Treatment Regulations” and published in the Federal Register on July 2, 2007, with an effective date of August 31, 2007 (72 FR 35909-35915, Docket No. APHIS-2006-0050), we amended 7 CFR 305.15 by making several changes to the requirements for cold treatment enclosures and the requirements for conducting cold treatment.

¹ To view the interim rule, go to http://www.regulations.gov/fdmspublic/component/main?main-DocketDetail&d=APHIS-2006-0050.

In a separate final rule ² titled “Revision of Fruits and Vegetables Import Regulations” and published in the Federal Register on July 18, 2007 and effective August 17, 2007 (72 FR 39481-39528, Docket No. APHIS-2005-0106), we revised and reorganized the regulations pertaining to the importation of fruits and vegetables to consolidate requirements of general applicability and eliminate redundant requirements, update terms and remove outdated requirements and references, update the regulations that apply to importations into territories under U.S. administration, and make various editorial and nonsubstantive changes to regulations to make them easier to use.

² To view the final rule, go to http://www.regulations.gov/fdmspublic/component/main?main-DocumentDetail&d=APHIS-2005-0106-0060.

As part of the July 18 final rule, we reorganized the cold treatment regulations in § 305.15 by moving requirements that had previously been found in the regulations governing the importation of fruits and vegetables, specifically in § 319.56-2d, to § 305.15. The final rule moved into § 305.15 all the provisions contained in § 319.56-2d that were not already present in § 305.15. The regulations were otherwise not amended. However, these changes necessitated a reorganization of the regulations in § 305.15.

In a technical amendment ³ that was effective and published in the Federal Register on August 31, 2007 (72 FR 50201-50204, Docket No. APHIS-2006-0050), we attempted to reconcile the July 2 interim rule and the July 18 final rule to ensure that the changes in the July 2 interim rule would appear correctly in the regulations as they had been reorganized by the July 18 final rule. However, we overlooked one aspect of their interaction. The July 2 interim rule amended paragraph (b) of § 305.15, which had included requirements for cold treatment enclosures. The July 18 final rule moved these requirements to paragraph (c) of the regulations, adding requirements for places of treatment and ports of entry that had previously been contained in the fruits and vegetables regulations to the cold treatment regulations as a new paragraph (b).

³ To view the technical amendment, go to http://www.regulations.gov/fdmspublic/component/main?main-DocketDetail&d=APHIS-2006-0050.

While the August 31 technical amendment correctly amended paragraph (c) to be consistent with the provisions of the interim rule, it did not specify that paragraph (b) should continue to read as it was established by the July 18 final rule. Thus, the July 2 interim rule amended paragraph (b) by removing the requirements for places of treatment and ports of entry, adding in their place the cold treatment enclosure provisions that the August 31 technical amendment had also added in paragraph (c). This document corrects that error by reinstating the requirements for places of treatment and ports of entry that had been established in paragraph (b) by the July 18 final rule.

List of Subjects in 7 CFR Part 305

Irradiation, Phytosanitary treatment, Plant diseases and pests, Quarantine, Reporting and recordkeeping requirements.

Accordingly, 7 CFR part 305 is corrected by making the following correcting amendments:

PART 305—PHYTOSANITARY TREATMENTS

1. The authority citation for 7 CFR part 305 continues to read as follows:

Authority: 7 U.S.C. 7701-7772 and 7781-7786; 21 U.S.C. 136 and 136a; 7 CFR 2.22, 2.80, and 371.3.

2. In § 305.15, revise paragraph (b) to read as follows:

§ 305.15 Treatment requirements.

* * * * *

(b) Places of treatment; ports of entry. Precooling and refrigeration may be performed prior to, or upon arrival of fruits and vegetables in the United States, provided treatments are performed in accordance with applicable requirements of this section. Fruits and vegetables that are not treated prior to arrival in the United States must be treated after arrival only in cold storage warehouses approved by the Administrator and located in the area north of 39° longitude and east of 104° latitude or at one of the following ports: The maritime ports of Wilmington, NC; Seattle, WA; Corpus Christi, TX; and Gulfport, MS; Seattle-Tacoma International Airport, Seattle, WA; and Hartsfield-Atlanta International Airport, Atlanta, GA.

* * * * *

Done in Washington, DC, this 5th day of December 2007.
Kevin Shea,
Acting Administrator, Animal and Plant Health Inspection Service.

[FR Doc. E7-23944 Filed 12-10-07; 8:45 am]

BILLING CODE 3410-34-P